NATIONAL CREDIT UNION ADMINISTRATION

Sunshine Act; Notice of Agency Meeting

TIME AND DATE: 3 p.m., Thursday, March 19, 2009.

PLACE: Board Room, 7th Floor, Room 7047, 1775 Duke Street, Alexandria, VA 22314-3428.

STATUS: Open.

MATTERS TO BE CONSIDERED:

1. Request from Citadel Federal Credit Union for a Community Charter Expansion.

2. Proposed Rule—Parts 741, 748 and 749 of NCUA's Rules and Regulations, Credit Union Reporting.

3. Proposed Rule—Part 707 of NCUA's Rules and Regulations, Truth in Savings Act Disclosures.

4. Final Rule—Part 742 of NCUA's Rules and Regulations, Regulatory Flexibility Program.

5. Insurance Fund Report.

RECESS: 4 p.m.

TIME AND DATE: 4:15 p.m., Thursday, March 19, 2009.

PLACE: Board Room, 7th Floor, Room 7047, 1775 Duke Street, Alexandria, VA 22314-3428.

STATUS: Closed.

MATTERS TO BE CONSIDERED:

1. Insurance Appeal. Closed pursuant to Exemption (6).

2. Consideration of Supervisory Activities (2). Closed pursuant to Exemptions (8), (9)(A)(ii) and 9(B).

FOR FURTHER INFORMATION CONTACT: Mary Rupp, Secretary of the Board, Telephone: 703-518-6304

Mary Rupp,
Board Secretary.

[FR Doc. E9-5739 Filed 3-12-09; 4:15 pm]

BILLING CODE 7535-01-P